FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 21, 2012.

A. Federal Reserve Bank of Atlanta (Chapelle Davis, Assistant Vice President) 1000 Peachtree Street, NE., Atlanta, Georgia 30309:

1. Renny B. Eadie and Robert M. Eadie, both of Lake City, Florida; to collectively acquire additional voting shares of PSB BancGroup, Inc., and thereby indirectly acquire additional voting shares of Peoples State Bank, both in Lake City, Florida.

B. Federal Reserve Bank of Dallas (E. Ann Worthy, Vice President) 2200 North Pearl Street, Dallas, Texas 75201-2272:

1. Mission-Heights Capital, Ltd., and Mission-Heights, LLC, both in Houston, Texas, general partner; and Charles Robert Miller, Jr., Odem, Texas, individually; to acquire voting shares of Odem Bancshares, Inc., and thereby indirectly acquire voting shares of First State Bank of Odem, both in Odem, Texas.

Board of Governors of the Federal Reserve System, March 1, 2012.
Robert deV. Frierson,
Deputy Secretary of the Board.

[FR Doc. 2012-5349 Filed 3-5-12; 8:45 am]

BILLING CODE 6210-01-P